DEPARTMENT OF THE INTERIOR

Bureau of Land Management

[ID-110-1430-EU 241A; DBG-08-1005]

Notice of Realty Action; Direct and Competitive Sales of Public Land, Idaho and Proposed Plan Amendment

AGENCY: Bureau of Land Management, Interior.

ACTION: Notice of Realty Action and Proposed Plan Amendment.

SUMMARY: Thirty-four parcels of public land in Ada, Adams, Canyon, Gem, Payette, Valley, and Washington Counties, Idaho are being proposed for direct and competitive sale under the provisions of the Federal Land Policy Management Act of 1976 (FLPMA), and the Federal Lands Transaction and Facilitation Act of 2000 (FLTFA) at no less than the appraised fair market value. Three parcels may be disposed of under the authority of the Recreation and Public Purposes Act of 1926, as amended (R&PP). Five of these parcels require amendment of the Cascade Resource Management Plan (RMP) prior to sale.

DATES: Comments on the proposed sales must be received by March 10, 2008. Protests on the proposed RMP amendment must be received or postmarked by February 25, 2008.

ADDRESSES: Comments regarding the proposed sales, as well as sealed bids, should be addressed to Rosemary Thomas, Four Rivers Field Manager, Bureau of Land Management, Boise District Office, 3948 Development Avenue, Boise, Idaho 83705, the location where the public auction will be held.

Protests to the proposed RMP amendment must be sent to the Director (760), Chief, Planning and Environmental Coordination, Bureau of Land Management, 1849 C Street, NW., Washington, DC 20240.

FOR FURTHER INFORMATION CONTACT: Information regarding the competitive sale procedures, including the environmental assessment, appraisals, and maps can be obtained at the public reception desk at the BLM Boise District Office, from 8 a.m. to 4:30 p.m., Monday through Friday (except Federal holidays), or by contacting Effie Schultsmeier, Four Rivers Realty Specialist, at the above address or phone (208) 384-3357.

SUPPLEMENTARY INFORMATION: The following described public lands have been examined and found suitable for transfer out of Federal ownership by sale utilizing direct and competitive sale procedures under the authority of Section 203 and Section 209 of FLPMA (90 Stat. 2750, 43 U.S.C. 1713 and 1719), and/or the R&PP Act (43 U.S.C. 869, et seq.).

Parcel 1. These lands encompass the existing Clay Peak Motorcycle Park and will be offered to Payette County via direct sale or other authority.

T. 8 N., R. 5 W., Boise Meridian, Payette County, Idaho

Section 1: Lots 1, 2, 3, 4, S½NE¼, SW¼NW¼, S½.

Section 2: Lots 1 & 2, S½NE¼, NE¼SE¼, NE¼SE¼, and that portion (approx. 25 acres) of the NW¼SE¼ remaining in federal ownership.

Section 12: N½NE¼, SW¼NE¼, that portion of the NW¼ lying north and east of the Northeasterly right-of-way boundary of State Highway 52.

Aggregating approximately 948.04 acres, more or less.

Appraised value $1,422,000.

Parcel 2. These lands will be offered for direct sale to Canyon County to be used as a buffer zone around the Pickles Butte Sanitary Landfill, for expansion of an existing shooting range, and for additional dispersed and OHV recreation.

T. 2 N., R. 3 W., Boise Meridian, Canyon County, Idaho

Section 20: S½S½;

Section 21: NW¼NE¼, NE¼NW¼; E½SW¼NE¼, E½W½SE¼;

Section 28: N½, N½SE¼, SE¼SE¼;

Section 29: N½NE¼;

Aggregating approximately 820.00 acres, more or less.

Appraised value $4,100,000.

Parcel 3. This isolated parcel near the City of Star will be offered to the City of Star via direct sale or other authority.

T. 5 N., R. 1 W., Boise Meridian, Ada County, Idaho

Section 31: N½SE¼;

Containing 80.00 acres, more or less

Appraised value $2,360,000.

Parcel 4. This isolated parcel near the City of Cascade will be offered for competitive sale.

T. 14 N., R. 3 E., Boise Meridian, Valley County, Idaho

Section 25: Lot 13;

Containing 8.76 acres, more or less.

Appraised value $1,095,000.

Parcel 5. This isolated parcel near existing developments in Canyon County will be offered to the City of Caldwell via direct sale or other authority.

T. 3 N., R. 3 W., Boise Meridian, Canyon County, Idaho

Section 15: Lots 2 and 3;

Containing 29.57 acres, more or less.

Appraised value $1,242,000.

Parcel 6. These lands will be offered for direct sale to Adams County for landfill purposes.

T. 15 N., R. 1 W., Boise Meridian, Adams County, Idaho

Section 17: NW¼NE¼;

Section 18: NW¼SE¼;

Aggregating 80.00 acres, more or less

Appraised value $102,000.

The following 28 parcels will be sold through open, competitive bidding.

Parcel 7.

T. 8 N., R. 2 W., Boise Meridian, Payette County, Idaho

Section 18: Lots 5, 6, E½SW¼;

Containing 158.64 acres, more or less.

Appraised value $15,864.

Parcel 8.

T.8 N., R. 2 W., Boise Meridian, Payette County, Idaho

Section 19: NE¼, E½NW¼, NE¼SW¼, N½SE¼;

Containing 360.00 acres, more or less.

Appraised value $36,000.

Parcel 9.

T.8 N., R. 2 W., Boise Meridian, Payette County, Idaho

Section 20: NW¼;

Containing 160.00 acres, more or less.

Appraised value $16,000.

Parcel 10.

T.8 N., R. 3 W., Boise Meridian, Payette County, Idaho

Section 23: W½NE¼, SE¼NE¼;

Containing 120.00 acres, more or less.

Appraised value $12,000.

Parcel 11.

T.8 N., R. 3 W., Boise Meridian, Payette County, Idaho

Section 24: NE¼NW¼, S½NW¼, NE¼SW¼;

Containing 160.00 acres, more or less.

Appraised value $16,000.

Parcel 12.

T.10 N., R. 3 W., Boise Meridian, Washington County, Idaho

Section 26: NW¼NW¼;

Containing 40.00 acres, more or less.

Appraised value $4,000.

Parcel 13.

T.10 N., R. 3 W., Boise Meridian, Washington County, Idaho

Section 27: SW¼SE¼;

Containing 40.00 acres, more or less.

Appraised value $4,000.

Parcel 14.

T.11 N., R. 2 W., Boise Meridian, Washington County, Idaho

Section 1: Lot 1, SE¼NE¼;

Containing 80.18 acres, more or less.

Appraised value $8,018.

Parcel 15.

T.14 N., R. 2 W., Boise Meridian, Adams County, Idaho

Section 1: SE¼SW¼;

Containing 40.00 acres, more or less.

Appraised value $4,560.

Parcel 16.

T.15 N., R. 1 W., Boise Meridian, Adams County, Idaho

Section 3: Lot 4;

Containing 39.11 acres, more or less.

Appraised value $41,000.

Parcel 17.

T.15 N., R. 1 W., Boise Meridian, Adams County, Idaho

Section 9: S½NW¼;

Containing 80.00 acres, more or less.

Appraised value $160,000.

Parcel 18.

T.15 N., R. 2 W., Boise Meridian, Adams County, Idaho

Section 13: N½N½;

Containing 160.00 acres, more or less.

Appraised value $70,400.

Parcel 19.

T.17 N., R. 1 W., Boise Meridian, Adams County, Idaho

Section 5: Lot 4, SW¼NW¼;

Containing 73.45 acres, more or less.

Appraised value $8,373.

Parcel 20.

T.1 N., R. 3 W., Boise Meridian, Canyon County, Idaho

Section 26: SE¼NE¼;

Containing 40.00 acres, more or less.

Appraised value $19,280.

Parcel 21.

T.1 N., R. 3 W., Boise Meridian, Canyon County, Idaho

Section 25: SW¼NW¼;

Containing 40.00 acres, more or less.

Appraised value $19,280.

Parcel 22. Removed from sale.

Parcel 23.

T.8 N., R. 3 W., Boise Meridian, Payette County, Idaho

Section 33: S½S½;

Containing 160.00 acres, more or less.

Appraised value $16,000.

Parcel 24.

T.8 N., R. 2 W., Boise Meridian, Payette County, Idaho

Section 31: S½SE¼;

Containing 80.00 acres, more or less.

Appraised value $8,000.

Parcel 25.

T.8 N., R. 2 W., Boise Meridian, Payette County, Idaho

Section 32: SW¼NE¼, N½SW¼;

Containing 120.00 acres, more or less.

Appraised value $12,000.

Parcel 26.

T. 7 N., R. 3 W., Boise Meridian, Gem County, Idaho

Section 4: Lots 1, 2, 3, 4, S½N½, E½SE¼;

Containing 398.90 acres, more or less.

Appraised value $45,475.

Parcel 27.

T. 7 N., R. 3 W., Boise Meridian, Gem County, Idaho

Section 2: SW¼NE¼;

Containing 40.00 acres, more or less.

Appraised value $4,000.

Parcel 28.

T.15 N., R. 2 W., Boise Meridian, Washington County, Idaho

Section 35: NW¼SE¼;

Containing 40.00 acres, more or less.

Appraised value $4,000.

Parcel 29.

T.11 N., R. 1 E., Boise Meridian, Gem County, Idaho

Section 24: SW¼NW¼;

Containing 40.00 acres, more or less.

Appraised value $4,000.

Parcel 30.

T.11 N., R. 2 E., Boise Meridian, Gem County, Idaho

Section 19: Lot 7;

Containing 40.23 acres, more or less.

Appraised value $4,586.

Parcel 31.

T. 9 N., R. 2 E., Boise Meridian, Boise County, Idaho

Section 19: Lot 3;

Containing 22.25 acres, more or less.

Appraised value $2,225.

Parcel 32.

T. 9 N., R. 2 E., Boise Meridian, Boise County, Idaho

Section 18: Lot 2;

Containing 21.98 acres, more or less.

Appraised value $2,200.

Parcel 33.

T. 7 N., R. 2 W., Boise Meridian, Gem County, Idaho

Section 8 : NE¼NW¼;

Containing 40.00 acres, more or less.

Appraised value $4,000.

Parcel 34.

T. 7 N., R. 2 W., Boise Meridian, Gem County, Idaho

Section 17: NE¼NE¼;

Containing 40.00 acres, more or less.

Appraised value $4,000.

Parcel 35.

T. 7 N., R. 3 W., Boise Meridian, Payette County, Idaho

Section 5: Lot 1, SE¼NE¼;

Containing 80.08 acres, more or less.

Appraised value $8,080.

If tracts offered for direct sale are not purchased by the identified party(s), the subject tracts may subsequently be offered for open competitive sale.

The 1988 Cascade RMP identified parcels 6 through 35 as suitable for disposal subject to a site-specific analysis. An RMP amendment is required to allow the sale of parcels 1 through 5. BLM has prepared an Environmental Assessment (EA) for these proposed sales, including the plan amendment, pursuant to the National Environmental Policy Act. BLM will be accepting public comments on the proposed sale until March 10, 2008.

As of January 24, 2008, the above described land is segregated from appropriation under the public land laws, including the mining laws, except for the Recreation and Public Purposes Act and the sale provisions of the FLPMA. The segregative effect will terminate upon issuance of a patent, publication in the Federal Register of a termination of the segregation, or January 25, 2010, whichever first occurs, unless extended by the BLM State Director in accordance with 43 CFR 2711.1-2(d) prior to the termination date.

If tracts offered for direct sale are not purchased by the identified party(s), the subject tracts may subsequently be offered for open competitive sale.

Whether sold through direct or competitive sale, each of the above parcels will be transferred subject to the following terms, conditions, and reservations:

1. A reservation to the United States of a right-of-way for ditches and canals constructed by the authority of the United States under the Act of August 30, 1890 (43 U.S.C. 945);

2. Pursuant to the requirements established by section 120(h) of the Comprehensive Environmental Response, Compensation, and Liability Act [42 U.S.C. 9620(h)] (CERCLA), as amended by the Superfund Amendments and Reauthorization Act of 1988 (100 Stat. 1670), notice is hereby given that the above-described lands have been examined and no evidence was found to indicate that any hazardous substances had been stored for one year or more, nor had any hazardous substances been disposed of or released on the subject property.

3. All purchasers/patentees, by accepting a patent, covenant and agree to indemnify, defend, and hold the United States harmless from any costs, damages, claims, causes of action, penalties, fines, liabilities, and judgments of any kind or nature arising from the past, present, and future acts or omissions of the patentees or their employees, agents, contractors, lessees, or any third party, arising out of or in connection with the patentee's use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now or may in the future become applicable to the real property; (2) Judgments, claims or demands of any kind assessed against the United States; (3) Costs, expenses, or damages of any kind incurred by the United States; (4) Releases or threatened releases of solid or hazardous waste(s), and/or hazardous substance(s), as defined by Federal or state environmental laws, off, on, into or under land, property and other interests of the United States; (5) Activities by which solid waste or hazardous substance(s) or waste, as defined by Federal and state environmental laws are generated, released, stored, used or otherwise disposed of on the patented real property, and any cleanup response, remedial action or other actions related in any manner to said solid or hazardous substance(s) or waste(s); or (6) Natural resource damages as defined by Federal and state law. This covenant shall be construed as running with the parcel of land patented or otherwise conveyed by the United States, and may be enforced by the United States in a court of competent jurisdiction.

The patent to the following parcels would be issued with a reservation of a right-of-way for a federal aid highway.

Parcel 1—IDBL-047699 FEDERAL AID HIGHWAY (SEC 17) Idaho Dept. of Transportation, Act of November 9, 1921 (42 Stat. 216)

Parcel 1—IDI-26915 FEDERAL AID HIGHWAY (SEC 317) Idaho Dept. of Transportation, Act of August 27, 1958 (23 U.S.C.317(A))

Parcel 16—IDI-4973 FEDERAL AID HIGHWAY (SEC 317) Idaho Dept. of Transportation, Act of August 27, 1958 (23 U.S.C. 317(A))

The following parcels would be transferred subject to specific valid existing rights, as described below.

Parcel 1—IDBL-056202 TRANSMISSION LINE RIGHT-OF-WAY Idaho Power Co., Act of March 4, 1911, as amended (43 U.S.C. 961)

Parcel 1—IDI-13054 TRANSMISSION LINE RIGHT-OF-WAY Idaho Power Co., Act of October 21, 1976 (43 U.S.C. 1761)

Parcel 1—IDI-20018 TRANSMISSION LINE RIGHT-OF-WAY Idaho Power Co., Act of October 21, 1976 (43 U.S.C. 1761)

Parcel 1—IDI-22927 ROAD RIGHT-OF-WAY Payette County, Act of October 21, 1976 (43 U.S.C. 1761)

Parcel 1—IDI-30003 TEL & TELEGRAPH RIGHT-OF-WAY Qwest, Act of October 21, 1976 (43 U.S.C. 1761)

Parcel 1—IDI-31924 ROAD RIGHT-OF-WAY Idaho Power Co., Act of October 21, 1976 (43 U.S.C. 1761)

Parcel 1—IDI-33588 POWER LINE RIGHT-OF-WAY Idaho Power Co., Various Authorities/Statutes

Parcel 2—IDI-001025 IRRIGATION FACILITY RIGHT-OF-WAY Farm Development Corp., Act of March 3, 1891, as amended (43 U.S.C. 946-949)

Parcel 2—IDI-0005012 TRANSMISSION LINE RIGHT-OF-WAY Idaho Power Co., Act of October 21, 1976 (43 U.S.C. 1761)

Parcel 2—IDI-0015221 TRANSMISSION LINE RIGHT-OF-WAY Idaho Power Co., Act of March 4, 1911, as amended (43 U.S.C. 961)

Parcel 2—IDI-0015222 TRANSMISSION LINE RIGHT-OF-WAY Idaho Power Co., Act of March 4, 1911, as amended (43 U.S.C. 961)

Parcel 2—IDI-20732 IRRIGATION FACILITY RIGHT-OF-WAY Bing/Frost Ranch Co., Act of July 26, 1866

Parcel 2—IDI-20932 IRRIGATION FACILITY RIGHT-OF-WAY Desert Sun Farms, Inc., Act of July 26, 1866

Parcel 2—IDI-29683 ROAD & PARKING RIGHT-OF-WAY Joe DeCleur, Act of October 21, 1976 (43 U.S.C. 1761)

Parcel 2—IDI-34099 ROAD RIGHT-OF-WAY Canyon County Solid Waste Dept., Act of October 21, 1976 (43 U.S.C. 1761)

Parcel 2—IDI-35131 ROAD RIGHT-OF-WAY Ralph Sevy, Act of October 21, 1976 (43 U.S.C. 1761)

Parcel 3—IDI-20849 ROAD RIGHT-OF-WAY Robert Morrison, Act of October 21, 1976 (43 U.S.C. 1761)

Parcel 3—IDI-30448 WATER FACILITY RIGHT-OF-WAY Star Sewer & Water, Act of October 21, 1976 (43 U.S.C. 1761)

Parcel 4—IDI-35649 TRAIL RIGHT-OF-WAY Southern Valley County Recreation District, Act of October 21, 1976 (43 U.S.C. 1761)

Parcel 6—IDI-22584 TEL & TELEGRAPH RIGHT-OF-WAY Council Telephone Co., Act of October 21, 1976 (43 U.S.C. 1761)

Parcel 6—IDI-33309 ROAD RIGHT-OF-WAY Adams County, Act of October 21, 1976 (43 U.S.C. 1761)

Parcel 6—IDI-33794 TRANSMISSION LINE RIGHT-OF-WAY Idaho Power Co., Act of October 21, 1976 (43 U.S.C. 1761)

Parcel 6—IDI-34097 TRANSMISSION LINE AND ROAD RIGHT-OF-WAY Idaho Power Co., Act of October 21, 1976 (43 U.S.C. 1761)

Parcel 6—IDI-34111 TEL & TELEGRAPH RIGHT-OF-WAY Cambridge Telephone, Act of October 21, 1976 (43 U.S.C. 1761)

Parcel 16—IDI-0733 TRANSMISSION LINE RIGHT-OF-WAY Idaho Power Co., Act of March 4, 1911, as amended (43 U.S.C. 961)

Parcel 16—IDI-22584 TEL & TELEGRAPH RIGHT-OF-WAY Council Telephone Co., Act of October 21, 1976 (43 U.S.C. 1761)

Parcel 16—IDI-31364 ROAD RIGHT-OF-WAY Alan Gamblin, Act of October 21, 1976 (43 U.S.C. 1761)

The following authorizations are revocable Land Use Permits that may or may not be included as valid existing rights on the affected patent, depending on whether or not the permits have been revoked prior to patent issuance.

Parcel 2—IDI-24390 LAND USE PERMIT—BEE HIVES Honeygold Corp., Act of October 21, 1976 (43 U.S.C. 1732)

Parcel 2—IDI-24410 LAND USE PERMIT—BEE HIVES Hamilton Honey LLC, Act of October 21, 1976 (43 U.S.C. 1732)

Parcel 2—IDI-24421 LAND USE PERMIT—AIR STRIP Valley Air Service, Act of October 21, 1976 (43 U.S.C. 1732)

The public lands will not be offered for sale until at least 60 days after the date of publication of this notice in the Federal Register, and then at no less than the appraised fair market value.

These lands will be offered for sale on May 6, 2008, pursuant to 43 CFR 2711.3-1. In the event of sale, the unreserved mineral estate will be conveyed simultaneously with the surface estate. The unreserved mineral interests have been determined to have no known mineral value pursuant to 43 CFR 2720.2 (a). Acceptance of the sale offer will constitute an application for conveyance of the unreserved mineral interests. The purchaser will be required to pay a $50.00 non-refundable filing fee for conveyance of the available mineral interests.

Competitive Sale Procedures

The sales will be by sealed bid, followed by oral auction. Sealed bids must be received at the BLM Boise District Office at the above address no later than 4:30 p.m. MDT on the day before the sale. Federal law requires that bidders must be U.S. citizens 18 years of age or older, or in the case of a corporation, subject to the laws of any State of the U.S. Proof of citizenship shall accompany the bid.

At 10 a.m. MDT on May 6, 2008, sealed bids will be opened at the BLM Boise District Office, and the highest acceptable sealed bid will be determined for each parcel. An oral auction will follow the determination of the highest acceptable sealed bid at or in excess of the appraised fair market value, with the opening oral bid being for not less than the highest acceptable sealed bid. Oral bidding will continue until the highest bid is determined. If no oral bids are received, the highest acceptable sealed bid will be considered the purchaser. If neither a sealed nor an oral bid is received for a particular parcel, that parcel will remain available for over-the-counter sale at the appraised fair market value for a period of 180 days following the sale date.

The purchaser will have 30 days from the date of acceptance of the high bid to submit a deposit of 20 percent of the purchase price and the $50.00 filing fee for conveyance of mineral interests. The purchaser must remit the remainder of the purchase price within 180 days from the date of the sale. Payments must be by certified check, postal money order, bank draft or cashiers check payable to the U.S. Department of the Interior—BLM. Failure to meet conditions established for this sale will void the sale, and any monies received will be forfeited to the BLM.

Public Comments: For a period until March 10, 2008, the public and interested parties may submit written comments regarding the proposed sale to the BLM Four Rivers Field Manager at the above address. Before including your address, phone number, e-mail address, or other personal identifying information in your comment, be advised that your entire comment—including your personal identifying information—may be made publicly available at any time. While you can ask us in your comment to withhold from public review your personal identifying information, we cannot guarantee that we will be able to do so.

The BLM will make available for public review, in their entirety, all comments submitted by businesses or organizations, including comments by individuals in their capacity as an official or representative of a business or organization.

Any adverse comments on the proposed sales will be reviewed by the BLM Idaho State Director, who may sustain, vacate, or modify this realty action and issue a final determination. In the absence of any objections, the realty action will become the final determination of the Department of the Interior. (Authority: 43 CFR 2711.1-2(a)). Protests on the proposed plan amendment must be received or postmarked no later than February 25, 2008 and must be sent to the Director (760), Chief, Planning and Environmental Coordination, at the above address. Any protest to the plan amendment should include: (1) Name, address, telephone number and interest of protesting party, (2) identification of the issue being protested, (3) a statement on the parts of the plan being protested, (4) a copy of all documents addressing the issues that were submitted during the planning process, and (5) a concise statement explaining why the State Director's decision is believed to be in error. The State Director will make a final decision on this proposed plan amendment following the Governor's consistency review and resolution of any protests that may be received by the Director. (Authority: 43 CFR 1610.5-2) Parcels 1 through 5, which require a plan amendment, will not be sold prior to the completion of the plan amendment.

Dated: January 16, 2008.
John Sullivan,
Acting Four Rivers Field Manager.

[FR Doc. E8-1162 Filed 1-23-08; 8:45 am]

BILLING CODE 4310-GG-P